FEDERAL MARITIME COMMISSION

[Docket No. 22-27]

Globerunners, Incorporated, Complainant v. Hoyer Global (USA), Inc., Respondent; Notice of Filing of Complaint and Assignment

Served: October 14, 2022.

Notice is given that a complaint has been filed with the Federal Maritime Commission (Commission) by Globerunners, Incorporated, hereinafter “Complainant,” against Hoyer Global (USA), Inc., hereinafter “Respondent.” Complainant states that it is a non-vessel-operating common carrier that is a corporation organized under the laws of California. Complainant identifies the Respondent as a non-vessel-operating common carrier that is a corporation organized under the laws of Texas.

Complainant alleges that Respondent violated 46 U.S.C. 41102(c) and 41104(a)(14) and 46 CFR 532.5(d)(2)(iv) in its practices and pass-through of charges. The full text of the complaint can be found in the Commission's Electronic Reading Room at https://www2.fmc.gov/readingroom/proceeding/22-27/.

This proceeding has been assigned to Office of Administrative Law Judges. The initial decision of the presiding officer in this proceeding shall be issued by October 14, 2023, and the final decision of the Commission shall be issued by April 29, 2024.

William Cody,
Secretary.

[FR Doc. 2022-22707 Filed 10-18-22; 8:45 am]

BILLING CODE 6730-02-P